DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 5, 2002 starting at 9 a.m.

ADDRESSES: The meeting will be held at RTCA, Inc., 1828 L Street, NW., Suite 805, Washington, DC, 20036.

FOR FURTHER INFORMATION CONTACT: RTCA Secretariat, 1828 L Street, NW., Suite 850, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• December 5:

• Opening Session (Welcome and Introductory Remarks, Review/Approve Summary of Previous Meeting).

• Publication Consideration/Approval:

• Final Draft, DO-235A, Assessment of Radio Frequency Interference Relevant to the GNSS, RTCA Paper No. 259-02/PMC-244, prepared by SC-159.

• Final Draft, Next Generation Air/Ground Communication System (NEXCOM) Safety and Performance Requirements (SPC), RTCA Paper No. 263-02/PMC-246, prepared by SC-198.

• Final Draft, Change 3 to DO-160D, Environmental Conditions and Test Procedures for Airborne Equipment, RTCA Paper No. 260-02/PMC-245, prepared by SC-135.

• Discussion:

• Special Committee 186, ADS-B.

• Update to Terms of Reference.

• Special Committee Chairman's Reports.

• Action Item Review:

• Review/Status—All Open Action Items.

• Other Business:

• EUROCAE Activity.

• Closing Session (Other Business, Document Production, Date and Place of Next Meeting, Adjourn).

Attendance is open to the interest public but limited to space availability. With the approval of the chairmen, members of the public may present oral statements at the meeting. Persons wishing to present statements or obtain information should contact the persons listed in the FOR FURTHER INFORMATION CONTACT section. Members of the public may present a written statement to the committee at any time.

Issued in Washington, DC, on November 12, 2002.
Norman Fujisaki,
Deputy Director, System Architecture and Investment Analysis.

[FR Doc. 02-29451 Filed 11-19-02; 8:45 am]

BILLING CODE 4910-73-M